DEPARTMENT OF EDUCATION

Meeting of the National Advisory Council on Indian Education

AGENCY: National Advisory Council on Indian Education (NACIE), U.S. Department of Education

ACTION: Notice of meeting.

SUMMARY: This notice sets forth the schedule and proposed agenda of an upcoming meeting of the National Advisory Council on Indian Education (the Council) and is intended to notify the general public of their opportunity to attend. This notice also describes the functions of the Council. Notice of the Council's meetings is required under section (10)(a)(2) of the Federal Advisory Committee Act and by the Council's charter.

Agenda: The purpose of the meeting will be to discuss the development of the annual report to Congress, NACIE activity plan and subcommittee reports. The Council will also receive a briefing on the National Indian Education Conference, including a discussion on strategies gained from the conference for implementing the No Child Left Behind Act in a manner that is consistent with tribal traditions, language and culture.

Date and Time: May 23, 2005; 9 a.m. to 4 p.m.

Location: American Indian Center, 1630 W. Wilson Avenue, Chicago, Illinois 60640.

FOR FURTHER INFORMATION CONTACT: Bernard Garcia, Group Leader, Office of Indian Education, U.S. Department of Education, 400 Maryland Avenue, SW., Washington, DC 20202. Telephone: 202-260-1454. Fax: 202-260-7779.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

The gerneral public is welcome to attend the May 23, 2005 meeting to be held from 9 a.m. to 4 p.m., in Chicago, IL. Individuals who need accommodations for a disability in order to participate (i.e., interpreting services, assistive listening devices, materials in alternative format) should notify Bernard Garcia at 202-260-1454 by May 11, 2005. We will attempt to meet requests after this date, but cannot guarantee availability of the requested accommodation. The meeting site is accessible to individuals with disabilities.

Records are kept of all Council proceedings and are available for public inspection at the Office of Indian Education, United States Department of Education, Room 5C141, 400 Maryland Avenue, SW., Washington, DC 20202.

Dated: April 29, 2005.
Margaret Spellings,
Secretary, U.S. Department of Education.

[FR Doc. 05-8917 Filed 5-3-05; 8:45 am]

BILLING CODE 4000-01-M